DEPARTMENT OF STATE

[Delegation of Authority 327]

Re-Delegation to Maura M. Pally of the Authorities of the Assistant Secretary of State for Educational and Cultural Affairs

By virtue of the authority vested in me as the Under Secretary of State for Public Diplomacy and Public Affairs by law, including by Delegation of Authority No. 234 of October 1, 1999, and the Foreign Affairs Reform and Restructuring Act of 1998 (112 Stat. 2681, et seq.), and to the extent authorized by law, I hereby delegate to Maura M. Pally the functions and authorities of the Assistant Secretary of State for Educational and Cultural Affairs.

The Secretary of State, the Deputy Secretary of State, the Deputy Secretary of State for Management and Resources, and the Under Secretary of State for Public Diplomacy and Public Affairs may at any time exercise the functions and authorities re-delegated herein. The functions and authorities re-delegated herein may not be further delegated without my approval.

All actions related to the functions and authorities described herein that have been taken by Maura M. Pally prior to the date of this delegation of authority are hereby confirmed and ratified. Such actions shall remain in force as if taken under this delegation of authority, unless or until such actions are rescinded, amended or superseded.

This delegation shall expire upon either the appointment and entry upon duty of an individual to serve as the Assistant Secretary of State for Educational and Cultural Affairs, or the selection and entry upon duty of an individual to serve as the Principal Deputy Assistant Secretary of State for Educational and Cultural Affairs, whichever shall occur first.

This delegation of authority shall be published in the Federal Register.

Dated: September 1, 2009.
Judith A. McHale,
Under Secretary for Public Diplomacy and Public Affairs, Department of State.

[FR Doc. E9-22076 Filed 9-11-09; 8:45 am]

BILLING CODE 4710-11-P